DEPARTMENT OF THE INTERIOR

Bureau of Land Management

[LLES956000-L14200000-BJ0000-LXSITRST0000]

Notice of Filing of Plat of Survey, Minnesota

AGENCY: Bureau of Land Management, Interior.

ACTION: Notice.

SUMMARY: The Bureau of Land Management (BLM) will file the plat of survey of the lands described below in the BLM-Eastern States office in Springfield, Virginia, 30 calendar days from the date of publication of this notice in the Federal Register.

FOR FURTHER INFORMATION CONTACT: Dominica Van Koten, Chief Cadastral Surveyor, 703-440-1674. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was requested by the Bureau of Indian Affairs.

The lands surveyed are:

Fourth Principal Meridian, Minnesota

T. 51 N., R 19 W.

The plat of survey represents the dependent resurvey and corrective dependent resurvey of a portion of the subdivisional lines and survey of the subdivision of Section 34, of Township 51 North, Range 19 West, of the Fourth Principal Meridian, in the State of Minnesota, and was accepted March 23, 2011.

We will place a copy of the plat we described in the open files. It will be available to the public as a matter of information.

If the BLM receives a protest against the survey, as shown on the plat, prior to the date of the official filing, we will stay the filing pending our consideration of the protest.

We will not officially file the plat until the day after we have accepted or dismissed all protests and they have become final, including decisions on appeals.

Dominica Van Koten,
Chief Cadastral Surveyor.

[FR Doc. 2011-11349 Filed 5-9-11; 8:45 am]

BILLING CODE 4310-GJ-P